DEPARTMENT OF EDUCATION

Applications for New Awards; Technology and Media Services for Individuals With Disabilities—Center on Online Learning and Students With Disabilities

AGENCY: Office of Special Education and Rehabilitative Services, Department of Education.

ACTION: Notice.

Overview Information:

Technology and Media Services for Individuals with Disabilities—Center on Online Learning and Students with Disabilities; Notice inviting applications for new awards for fiscal year (FY) 2011.

Catalog of Federal Domestic Assistance (CFDA) Number: 84.327U.

Dates:

Applications Available: May 5, 2011.

Deadline for Transmittal of Applications: June 20, 2011.

Deadline for Intergovernmental Review: August 18, 2011.

Full Text of Announcement

I. Funding Opportunity Description

Purpose of Program: The purposes of the Technology and Media Services for Individuals with Disabilities program are to: (1) Improve results for children with disabilities by promoting the development, demonstration, and use of technology; (2) support educational media services activities designed to be of educational value in the classroom setting to children with disabilities; and (3) provide support for captioning and video description that are appropriate for use in the classroom setting.

Priority: In accordance with 34 CFR 75.105(b)(2)(v), this priority is from allowable activities specified in the statute, or otherwise authorized in the statute (see sections 674(c) and 681(d) of the Individuals with Disabilities Education Act (IDEA)).

Absolute Priority: For FY 2011 and any subsequent year in which we make awards from the list of unfunded applicants from this competition, this priority is an absolute priority. Under 34 CFR 75.105(c)(3) we consider only applications that meet this priority.

This priority is:

Center on Online Learning and Students With Disabilities (84.327U)

Background:

Online learning is growing rapidly in this country and is likely to become an essential component of the educational system as usage increases and more advanced forms of online learning emerge. By one estimate, 1.5 million students in kindergarten through grade 12 (K-12) were engaged in some form of online learning during the 2009-2010 school year, and this number is expected to increase dramatically in future years (Wicks, 2010; Picciano & Seaman, 2007; U.S. Department of Education, 2010). The expanded use of online learning offers potential benefits to children with disabilities but also poses significant challenges (Keeler, et al., 2007).

“Online learning,” as used in this notice, refers to learning that takes place partially or entirely over the Internet (U.S. Department of Education, 2009). Online learning can have different forms and take place in different contexts. For example, online learning may take place in a traditional school as a regular part of the school day, or it may take place in a full-time online “virtual school” in which the student participates from home, a community setting, or a workplace. The pedagogy of online learning may be “expository” in which the technology is used to transmit educational content in a manner similar to a traditional lecture. The pedagogy may be “active” in which the technology allows learners to access content through interactive simulations, games, or other online resources, or the pedagogy may be “interactive” in which learning emerges from human interactions that take place via online learning communities, virtual worlds, etc. Online learning can be largely text-based; video and audio may also may be used to provide content. Content may be delivered on a desktop computer, laptop computer, or a mobile device like a smart phone or electronic tablet. Finally, online learning may involve “synchronous” communication in which students and teachers interact concurrently, for example, through online chats or webcasts, or it may involve “asynchronous” communication with delayed interactions using e-mail, threaded discussions, etc. (U.S. Department of Education, 2009; Barbour & Reeves, 2009). Online learning is expected to evolve in future years with increased use of multimedia, games, and social networking; increased mobility of and expansion into informal learning environments; infusion of competencies in emerging technologies; and more personalized learning (U.S. Department of Education, 2010).

When asked why they have chosen to use online learning resources for instruction, school administrators cite several reasons, including that these resources allow schools to offer courses not otherwise available in particular school settings (e.g., rural schools, under-resourced schools); meet the needs of specific groups of students (e.g., homebound students, English learners); offer advanced or college-level courses; reduce scheduling conflicts; and that the resources permit students who failed courses to take them again. Cost advantages are sometimes cited also, but less frequently (Picciano & Seaman, 2007; Barbour & Reeves, 2009).

Online learning can have a number of potential benefits for children with disabilities. Use of online technology can allow for individualized instruction, flexible presentation of content, frequent and immediate feedback, better monitoring of student progress, and increased student control. Additionally, flexible online learning may increase access for homebound or hospital-bound children. Online learning in the home increases the potential for parental involvement. Finally, online learning may help reduce the impact of shortages of related services providers and other specialists in rural and under-resourced areas (e.g., through online speech therapy, academic remediation, etc.) (Smith & Meyen, 2003; Barbour & Reeves, 2009; Keeler, et al., 2007; Muller, 2010).

Research suggests that online learning can be at least as effective as in-person instruction in many circumstances, but that characteristics of the students and instructional content may influence its effectiveness (U.S. Department of Education, 2009; Figlio, Rush & Yin, 2010). Most of the research on the effectiveness of online learning to date has focused on postsecondary students, and few studies have examined the effectiveness of online learning for students with disabilities. Research on the potential effectiveness of online learning is needed, particularly for K-12 students and students with disabilities.

Before all children with disabilities can benefit from online learning, the materials and delivery platforms (web, mobile devices, computers, etc.) must be fully accessible. Current efforts to help ensure accessibility include the Web Accessibility Initiative (http://www.w3.org/WAI), development of accessibility standards by the United States Access Board (http://www.access-board.gov), development and application of the National Instructional Materials Accessibility Standard (NIMAS) (http://aim.cast.org/collaborate/NIMASCtr), and the “Access for All” accessibility initiative of the IMS Global Learning Consortium (http://www.imsglobal.org/accessibility). These efforts have led to the establishment and implementation of accessibility standards for the World Wide Web, information technologies, and instructional materials in printed and digital forms. Research, however, is needed on the degree to which these efforts are sufficiently comprehensive and effective in ensuring accessibility of online learning for individuals with disabilities.

Online learning not only must be accessible, but also must be effective in supporting learning for children with disabilities by providing learning supports and being “universally designed” to meet the needs of all learners (Keeler, et al., 2007; Grabinger, Aplin, & Ponnappa-Brenner, 2008). Archambault, et al. (2010) conducted a survey of online learning programs to identify challenges and strategies for serving “at-risk” students, including children with disabilities, enrolled in these online programs. Among the main challenges reported were difficulty in establishing and maintaining student engagement and motivation, and student difficulties related to managing time and navigating assignments. The programs reported using a variety of strategies to address these challenges, including early identification and intervention for at-risk learners; personal learning plans; individualized instruction using supplementary tools (e.g., technology-based reading programs and online study tools); connecting learning activities to real life; increasing communication among teachers, mentors, learning coaches, students, and families; and extended time to complete online work. While the programs reported that using these strategies was helpful, additional research is needed to study their effects on student learning outcomes.

Online learning is expanding and evolving dramatically in the United States, offering new opportunities for the education of children with disabilities but also presenting challenges related to accessibility and effectiveness. Research is needed to: (1) Determine the extent to which current online learning opportunities are available, accessible, and potentially effective in improving outcomes for children with disabilities, and (2) identify promising approaches for improving the accessibility and potential effectiveness of online learning for children with disabilities.

Priority:

The purpose of this priority is to fund a cooperative agreement to support the establishment and operation of a Center on Online Learning and Students with Disabilities (Center). The Center will conduct a program of research to study: (1) Current and emerging trends and issues related to the participation of all children with disabilities in online learning from kindergarten through grade 12 (K-12); (2) potential positive outcomes and negative consequences of online learning for children with disabilities; and (3) promising approaches for effectively including children with disabilities in online learning.

To be considered for funding under this absolute priority, applicants must meet the application requirements contained in this priority. All projects funded under this absolute priority also must meet the programmatic and administrative requirements specified in the priority.

Application Requirements. An applicant must include in its application—

(a) A logic model that depicts, at a minimum, the goals, activities, outputs, and outcomes of the proposed project. A logic model communicates how a project will achieve its outcomes and provides a framework for both the formative and summative evaluations of the project;

Note: The following two Web sites provide more information on logic models and list multiple online resources: http://www.researchutilization.org/matrix/logicmodel_resource3c.html, and http://www.tadnet.org/model_and_performance.

(b) A plan to implement the activities described in the Project Activities section of this priority;

(c) A plan, linked to the proposed project's logic model, for a formative evaluation of the proposed project's activities. The plan must describe how the formative evaluation will use clear performance objectives to ensure continuous improvement in the operation of the proposed project, including objective measures of progress in implementing the project and ensuring the quality of products and services;

(d) A budget for a summative evaluation to be conducted by an independent third party;

(e) A budget for attendance at the following:

(1) A one and one half-day kick-off meeting to be held in Washington, DC, within four weeks after receipt of the award, and an annual planning meeting held in Washington, DC, with the Office of Special Education Programs (OSEP) Project Officer during each subsequent year of the project period.

(2) A three-day Project Directors' Conference in Washington, DC, during each year of the project period.

(3) Two additional two-day trips annually to attend Department briefings, Department-sponsored conferences, and other meetings, as requested by OSEP.

Project Activities. To meet the requirements of this priority, the Center, at a minimum, must—

(a) Establish and maintain a technical work group (TWG) to review the research and development plans and activities of the Center and to provide technical advice throughout the project period. At a minimum the TWG must convene annually, whether in person, by phone, or through other means. The TWG must include individuals with expertise in online learning, effective instructional approaches for children with disabilities, and research methods, including the research methodologies employed by the Center;

(b) Plan and conduct a systematic program of research and development using methods that may include analyses of extant literature, data, and documents from other sources; collection of data via surveys, focus groups, interviews, and observations; analysis of instructional artifacts; design research; quasi-experimental research; and other appropriate methods. The program of research and development must accomplish the following four tasks:

(1) Identify and verify trends and issues related to the participation of children with disabilities in K-12 online learning in a range of forms and contexts (e.g., virtual schools, online courses, expository, interactive, etc.). Research topics must include: Accessibility and delivery of content, patterns of student participation, learning needs and supports, and emerging forms of online learning and their potential impact on accessibility and outcomes for children with disabilities;

(2) Identify and describe major potential positive outcomes and negative consequences of participation in online learning for children with disabilities, and analyze the available evidence on these outcomes and consequences. Positive outcomes may include a range of academic, social, career, and functional achievements associated with college- and career-readiness. Negative consequences may include reduced access to social or extra-curricular activities, a narrowed curriculum, or reduced alignment of instruction with academic standards;

(3) Identify and develop promising approaches for increasing the accessibility and potential effectiveness of online learning for children with disabilities. These approaches may involve designing accessibility and support features for online learning, providing supplementary off-line resources, individualizing online learning, identifying and addressing student learning problems as soon as possible, and training students, teachers, tutors, parents, and others involved in online learning on ways to support student learning.

(4) Test the feasibility, usability, and potential effectiveness (or promise) of one or more key approaches identified in paragraph (3) using appropriate research designs such as quasi-experimental, single-subject, qualitative, and experimental research. This research must involve actual try-outs of the approach(es) with the intended populations in authentic settings. The research must produce detailed descriptions of the approaches and their key components, evidence that the approaches can be successfully implemented in authentic settings, and evidence of the promise of the approaches for achieving their intended outcomes;

(c) Maintain a Web site that meets government and industry-recognized standards for accessibility.

(d) Disseminate information on the activities and findings of the project regionally and nationally through the use of Web sites and other electronic media, publications, presentations, and communities of practice.

(e) Maintain ongoing communication with the OSEP Project Officer through monthly phone conversations and e-mail communication.

(f) Communicate and collaborate, on an ongoing basis, with OSEP-funded projects and other projects engaged in relevant activities. This collaboration may include the coordination of research, joint dissemination of findings, and planning and carrying out meetings and events.

(g) Participate in a summative evaluation of the Center conducted by an independent third party.

Extending the Project for a Fourth and Fifth Year

The Secretary may extend the Center for up to two additional years beyond its original project period of 36 months if the grantee is achieving the intended outcomes of the grant.

References

Archambault, L.; Diamond, D.; Brown, R.; Cavanaugh, C.; Coffey, M.; Foures-Aalbu, D.; Richardson, J. & Zygouris-Coe, V. (2010). Research committee issues brief: An exploration of at-risk learners and online education. Vienna VA: International Association for K-12 Online Learning.

Barbour, M. K. & Reeves, T. C. (2009). The reality of virtual schools: A review of the literature. Computers & Education, 52, 402-416.

Figlio, D.N., Rush, M. & Yin, L. (2010). Is it live or is it Internet? Experimental estimates of the effects of online instruction on student learning (NBER Working Paper 16089). Cambridge, MA: National Bureau of Economic Research. (http://www.nber.org/papers/w16089)

Grabinger, S. R., Aplin, C. & Ponnappa-Brenner, G. (2008). Supporting learners with cognitive impairments in online environments. TechTrends, 52(1), 63-69.

Keeler, C. G., Richter, J., Anderson-Inman, L., Horney, M. A., Ditson, M. (2007). Exceptional Learners: Differentiated Instruction Online. In C. Cavanaugh & R. Blomeyer (Eds.), What works in K-12 online learning (pp. 125−178). Eugene, OR: International Society for Technology in Education.

Müller, E. (2010). Virtual K-12 public school programs and students with disabilities: Issues and recommendations—A Policy Forum proceedings document. Alexandria, VA: Project Forum at the National Association of State Directors of Special Education.

Picciano, A. G., & Seaman, J. (2007). K-12 online learning: A survey of U.S. school district administrators. Newburyport, MA: Sloan Consortium.

Smith, S. J. & Meyen, E. L. (2003). Applications of online instruction: An overview for teachers, students with mild disabilities, and their parents. Focus on Exceptional Children. 35(6), 1-15.

U.S. Department of Education, Office of Innovation and Improvement. (2008). Evaluating Online Learning: Challenges and Strategies for Success, Washington, DC.

U.S. Department of Education, Office of Planning, Evaluation, and Policy Development. (2009). Evaluation of Evidence-Based Practices in Online Learning: A Meta-Analysis and Review of Online Learning Studies, Washington, DC.

U.S. Department of Education, Office of Educational Technology. (2010). Transforming American Education: Learning Powered by Technology, Washington, DC, 2010.

Wicks, M. (2010). A national primer on K-12 online learning, Version 2. Vienna, VA: International Association for K-12 Online Learning.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481(d).

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to institutions of higher education (IHEs) only.

II. Award Information

Type of Award: Cooperative agreement.

Estimated Available Funds: $1,497,000. Contingent upon the availability of funds and the quality of applications, we may make additional awards in FY 2012 from the list of unfunded applicants from the competition.

Maximum Award: We will reject any application that proposes a budget exceeding $1,497,000 for a single budget period of 12 months. The Assistant Secretary for Special Education and Rehabilitative Services may change the maximum amount through a notice published in the Federal Register.

Number of Awards: 1.

Note: The Department is not bound by any estimates in this notice.

Project Period: Up to 36 months with an optional additional 24 months based on performance.

III. Eligibility Information

1. Eligible Applicants: State educational agencies (SEAs); local educational agencies (LEAs), including public charter schools that are considered LEAs under State law; IHEs; other public agencies; private nonprofit organizations; outlying areas; freely associated States; Indian tribes or tribal organizations; and for-profit organizations.

2. Cost Sharing or Matching: This competition does not require cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: You can obtain an application package via the Internet, from the Education Publications Center (ED Pubs), or from the program office.

To obtain a copy via the Internet, use the following address: http://www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD), call, toll free: 1-877-576-7734.

You can contact ED Pubs at its Web site, also: http://www.EDPubs.gov or at its e-mail address: edpubs@inet.ed.gov.

If you request an application package from ED Pubs, be sure to identify this competition as follows: CFDA number 84.327U.

To obtain a copy from the program office, contact the person listed under For Further Information Contact in section VII of this notice.

Individuals with disabilities can obtain a copy of the application package in an accessible format (e.g., braille, large print, audiotape, or computer diskette) by contacting the person or team listed under Accessible Format in section VIII of this notice.

2. Content and Form of Application Submission: Requirements concerning the content of an application, together with the forms you must submit, are in the application package for this competition. Page Limit: The application narrative (Part III of the application) is where you, the applicant, address the selection criteria that reviewers use to evaluate your application. You must limit Part III to the equivalent of no more than 50 pages, using the following standards:

• A “page” is 8.5″ x 11″, on one side only, with 1” margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial. An application submitted in any other font (including Times Roman or Arial Narrow) will not be accepted.

The page limit does not apply to Part I, the cover sheet; Part II, the budget section, including the narrative budget justification; Part IV, the assurances and certifications; or the one-page abstract, the resumes, the bibliography, the references, or the letters of support. However, the page limit does apply to all of the application narrative section (Part III).

We will reject your application if you exceed the page limit; or if you apply other standards and exceed the equivalent of the page limit.

3. Submission Dates and Times:

Applications Available: May 5, 2011.

Deadline for Transmittal of Applications: June 20, 2011.

Applications for grants under this competition may be submitted electronically using the Grants.gov Apply site (Grants.gov), or in paper format by mail or hand delivery. For information (including dates and times) about how to submit your application electronically, or in paper format by mail or hand delivery, please refer to section IV. 7. Other Submission Requirements of this notice.

We do not consider an application that does not comply with the deadline requirements.

Individuals with disabilities who need an accommodation or auxiliary aid in connection with the application process should contact the person listed under For Further Information Contact in section VII of this notice. If the Department provides an accommodation or auxiliary aid to an individual with a disability in connection with the application process, the individual's application remains subject to all other requirements and limitations in this notice. Deadline for Intergovernmental Review: August 18, 2011.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and Central Contractor Registry: To do business with the Department of Education, you must—

a. Have a Data Universal Numbering System (DUNS) number and a Taxpayer Identification Number (TIN);

b. Register both your DUNS number and TIN with the Central Contractor Registry (CCR), the Government's primary registrant database;

c. Provide your DUNS number and TIN on your application; and

d. Maintain an active CCR registration with current information while your application is under review by the Department and, if you are awarded a grant, during the project period.

You can obtain a DUNS number from Dun and Bradstreet. A DUNS number can be created within one business day.

If you are a corporate entity, agency, institution, or organization, you can obtain a TIN from the Internal Revenue Service. If you are an individual, you can obtain a TIN from the Internal Revenue Service or the Social Security Administration. If you need a new TIN, please allow 2-5 weeks for your TIN to become active.

The CCR registration process may take five or more business days to complete. If you are currently registered with the CCR, you may not need to make any changes. However, please make certain that the TIN associated with your DUNS number is correct. Also note that you will need to update your CCR registration on an annual basis. This may take three or more business days to complete.

In addition, if you are submitting your application via Grants.gov, you must (1) be designated by your organization as an Authorized Organization Representative (AOR); and (2) register yourself with Grants.gov as an AOR. Details on these steps are outlined in the Grants.gov 3-Step Registration Guide (see http://www.grants.gov/section910/Grants.govRegistrationBrochure.pdf).

7. Other Submission Requirements: Applications for grants under this competition may be submitted electronically or in paper format by mail or hand delivery.

a. Electronic Submission of Applications.

We are participating as a partner in the Governmentwide Grants.gov Apply site. The Center on Online Learning and Students with Disabilities competition, CFDA number 84.327U, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the Center on Online Learning and Students with Disabilities competition, CFDA number 84.327U, at http://www.Grants.gov. You must search for the downloadable application package for this program by the CFDA number. Do not include the CFDA number's alpha suffix in your search (e.g., search for 84.327, not 84.327U).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at http://www.G5.gov.

• You will not receive additional point value because you submit your application in electronic format, nor will we penalize you if you submit your application in paper format.

• If you submit your application electronically, you must submit all documents electronically, including all information you typically provide on the following forms: The Application for Federal Assistance (SF 424), the Department of Education Supplemental Information for SF 424, Budget Information—Non-Construction Programs (ED 524), and all necessary assurances and certifications.

• If you submit your application electronically, you must upload any narrative sections and all other attachments to your application as files in a .PDF (Portable Document) format only. If you upload a file type other than a .PDF or submit a password-protected file, we will not review that material.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under For Further Information Contact in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the following address: U.S. Department of Education, Application Control Center, Attention: (CFDA Number 84.327U) LBJ Basement Level 1, 400 Maryland Avenue, SW, Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327U) 550 12th Street, SW., Room 7041, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this grant notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors:

In the past, the Department has had difficulty finding peer reviewers for certain competitions because so many individuals who are eligible to serve as peer reviewers have conflicts of interest. The Standing Panel requirements under IDEA also have placed additional constraints on the availability of reviewers. Therefore, the Department has determined that, for some discretionary grant competitions, applications may be separated into two or more groups and ranked and selected for funding within specific groups. This procedure will make it easier for the Department to find peer reviewers, by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN). We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to http://www.ed.gov/fund/grant/apply/appforms/appforms.html.

4. Performance Measures: Under the Government Performance and Results Act of 1993 (GPRA), the Department has established a set of performance measures, including long-term measures, that are designed to yield information on various aspects of the effectiveness and quality of the Technology and Media Services for Individuals with Disabilities program. These measures focus on the extent to which projects are of high quality, are relevant to improving outcomes of children with disabilities, and contribute to improving outcomes for children with disabilities. We will collect data on these measures from the project funded under this competition.

The grantee will be required to report information on its project's performance in annual performance reports to the Department (34 CFR 75.590).

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

For Further Information Contact: David Malouf, U.S. Department of Education, 400 Maryland Avenue, SW., Room 4114, Potomac Center Plaza (PCP), Washington, DC 20202-2550. Telephone: (202) 245-6253.

If you use a TDD, call the Federal Relay Service (FRS), toll free, at 1-800-877-8339.

VIII. Other Information

Accessible Format: Individuals with disabilities can obtain this document and a copy of the application package in an accessible format (e.g., braille, large print, audiotape, or computer diskette) by contacting the Grants and Contracts Services Team, U.S. Department of Education, 400 Maryland Avenue, SW., Room 5075, PCP, Washington, DC 20202-2550. Telephone: (202) 245-7363. If you use a TDD, call the FRS, toll free, at 1-800-877-8339.

Electronic Access to This Document: The official version of this document is the document published in the Federal Register. Free Internet access to the official edition of the Federal Register and the Code of Federal Regulations is available via the Federal Digital System at: http://www.gpo.gov/fdsys. At this site you can view this document, as well as all other documents of this Department published in the Federal Register, in text or Adobe Portable Document Format (PDF). To use PDF you must have Adobe Acrobat Reader, which is available free at the site.

You may also access documents of the Department published in the Federal Register by using the article search feature at: http://www.federalregister.gov. Specifically, through the advanced search feature at this site, you can limit your search to documents published by the Department.

Dated: May 2, 2011.
Alexa Posny,
Assistant Secretary for Special Education and Rehabilitative Services.

[FR Doc. 2011-10990 Filed 5-4-11; 8:45 am]

BILLING CODE 4000-01-P